NATIONAL LABOR RELATIONS BOARD

Notice of Appointments of Individuals To Serve as Members of Performance Review Boards

AGENCY: National Labor Relations Board.

ACTION: Notice; appointment to serve as members of performance review boards.

SUMMARY: The National Labor Relations Board is issuing this notice that the individuals whose names and position titles appear below have been appointed to serve as members of performance review boards in the National Labor Relations Board for the rating year beginning October 1, 2024 and ending September 30, 2025.

FOR FURTHER INFORMATION CONTACT: Roxanne L. Rothschild, Executive Secretary, National Labor Relations Board, 1015 Half Street SE, Washington, DC 20570, (202) 273-1940 (this is not a toll-free number), 1-866-315-6572 (TTY/TDD).

SUPPLEMENTARY INFORMATION:

Name and Title

Roxanne L. Rothschild—Executive Secretary, The Board

Fred B. Jacob—Solicitor, The Board

Nancy Kessler Platt—Associate General Counsel, Division of Legal Counsel

Joan A. Sullivan—Associate General Counsel, Division of Operations Management

Lara Zick—Deputy Chief Counsel, The Board

Amy E. Bryant—Deputy Chief Counsel, The Board (alternate)

Stephanie Cahn—Acting Deputy General Counsel (alternate)

(Authority: 5 U.S.C. 4314(c)(4).)

Dated: November 18, 2025.
Roxanne L. Rothschild,
Executive Secretary.

[FR Doc. 2025-20521 Filed 11-20-25; 8:45 am]

BILLING CODE 7545-01-P